DEPARTMENT OF THE TREASURY

Internal Revenue Service

26 CFR Part 1

[REG-103842-07]

RIN 1545-BG33

Qualified Films Under Section 199; Correction

AGENCY: Internal Revenue Service (IRS), Treasury.

ACTION: Cancellation of notice of public hearing on proposed rulemaking.

SUMMARY: This document cancels a public hearing on proposed regulations under section 199 of the Internal Revenue Code. These regulations involve the deduction for income attributable to domestic production activities under section 199 and affect taxpayers who produce qualified films under section 199(c)(4)(A)(i)(II) and (c)(6) and taxpayers who are members of an expanded affiliated group under section 199(d)(4).

DATES: The public hearing, originally scheduled for October 2, 2007, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Thursday, June 7, 2007 (72 FR 31478), announced that a public hearing was scheduled for October 2, 2007, at 10 a.m., in the IRS Auditorium, Internal Revenue Building, 1111 Constitution Avenue, NW., Washington, DC. The subject of the public hearing is under section 199 of the Internal Revenue Code.

The public comment period for these regulations expired on September 5, 2007. The notice of proposed rulemaking and notice of public hearing instructed those interested in testifying at the public hearing to submit a request to speak and an outline of the topics to be addressed. As of Tuesday, September 11, 2007, no one has requested to speak. Therefore, the public hearing scheduled for October 2, 2007, is cancelled.

LaNita Van Dyke,
Chief, Publications and Regulations Branch, Legal Processing Division, Associate Chief Counsel (Procedure and Administration).

[FR Doc. E7-18507 Filed 9-19-07; 8:45 am]

BILLING CODE 4830-01-P